SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before October 16, 2023.

ADDRESSES: Send all comments to Marybeth Kerrigan, Office of Financial Assistance, Small Business Administration, 409 3rd Street SW, Washington, DC 20416.

FOR FURTHER INFORMATION CONTACT: Marybeth Kerrigan, Financial Analyst, Office of Financial Assistance, mary.kerrigan@sba.gov (202) 205-7552, or Curtis B. Rich, Agency Clearance Officer, (202) 205-7030, curtis.rich@sba.gov.

SUPPLEMENTARY INFORMATION:

Title: “Secondary Market for Section 504 First Mortgage Loan Pool Program.”

Abstract: These forms captures the terms and conditions of the Small Business Administration's (SBA) Secondary Market for section 504 First Mortgage Loan Pool Program. SBA needs this information collection is order to identify program participants, terms of financial transactions involving federal government guaranties, and reporting on program efficiency, including the proper use of Recovery Act funds.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0367.

Title: Secondary Market for Section 504 First Mortgage Loan Pool Program.

Description of Respondents: Secondary Market Loan Programs.

Form Number: SBA Form 2402.

Total Estimated Annual Responses: 12,490.

Total Estimated Annual Hour Burden: 33,075.

Curtis Rich,
Agency Clearance Officer.

[FR Doc. 2023-17630 Filed 8-16-23; 8:45 am]

BILLING CODE 8026-09-P